DEPARTMENT OF HEALTH AND HUMAN SERVICES

Administration for Children and Families

[OMB #: 0970-0145]

Proposed Information Collection Activity; Temporary Assistance for Needy Families (TANF) Program State Plan Guidance

AGENCY: Office of Family Assistance, Administration for Children and Families, U.S. Department of Health and Human Services.

ACTION: Request for public comments.

SUMMARY: The Administration for Children and Families (ACF) is requesting a 3-year extension of the Temporary Assistance for Needy Families (TANF) State Plan Guidance (TANF State Plan; Office of Management and Budget (OMB) #0970-0145, expiration October 31, 2025). There are no changes requested to this information collection.

DATES: Comments due November 17, 2025.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: The TANF State Plan is a mandatory statement submitted to the Secretary of the U.S. Department of Health and Human Services by the state. 42 U.S.C. 602. It consists of an outline specifying how the state's TANF program will be administered and operated and contains certain required certifications by the state's Chief Executive Officer. 42 U.S.C. 602(a). It is used to provide the public with information about the program. 42 U.S.C. 602(c).

Authority to require states to submit a State TANF Plan is contained in section 402 of the Social Security Act (42 U.S.C. 602), as amended by the Personal Responsibility and Work Opportunity Reconciliation Act of 1996, Public Law 104-193, 110 Stat. 2105. States are required to submit new plans within a 27-month period. 42 U.S.C. 602(a).

Respondents: The 50 states of the U.S., the District of Columbia, Guam, Puerto Rico, and the U.S. Virgin Islands.

Annual Burden Estimates

The State TANF Plan requirements for the 54 states (which includes three territories and the District of Columbia) will create a triennial burden with an average of 18 states responding annually. We estimate the annual burden to be an average of 30 hours per response. We also estimate that the triennial burden of plan amendments for the 54 states, with an average of 18 respondents annually spending approximately 3 hours per response.

Instrument | Total number of respondents per year | Total number of annual responses per respondent | Average burden hours per response | Annual burden hours
Title Amendments | 18 | 1 | 3 | 54
State TANF plan | 18 | 1 | 30 | 540
Estimated Total Annual Burden Hours |  |  |  | 594

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 602.

Mary C. Jones,
ACF/OPRE Certifying Officer.

[FR Doc. 2025-17996 Filed 9-16-25; 8:45 am]

BILLING CODE 4184-36-P